DEPARTMENT OF ENERGY

Federal Energy Regulatory Commission

[Project No. 2713-082]

Erie Boulevard Hydropower, L.P; Notice of Settlement Agreement and Soliciting Comments

Take notice that the following Settlement Agreement has been filed with the Commission and is available for public inspection.

a. Type of Application: Comprehensive Settlement Agreement (Settlement) for the relicensing of the Oswegatchie River Hydroelectric Project.

b. Project No.: P-2713-082.

c. Date Filed: February 18, 2011.

d. Applicant: Erie Boulevard Hydropower, L.P.

e. Location: The existing multi-development project is located on the Oswegatchie River in St. Lawrence County, New York. The project does not affect Federal lands.

g. Filed Pursuant to Rule 602 of the Commission's Rules of Practice and Procedure, 18 CFR 385.602 Federal Power Act 16 USC 791 (a)-825(r)

h. Applicant Contact: Daniel Daoust, Erie Boulevard Hydropower, 33 West 1st Street, South, Fulton, NY, 13069; (315) 598-6131.

i. FERC Contact: John Baummer (202) 502-6837 or e-mail at john.baummer@ferc.gov.

j. Deadline for filing comments on the Settlement: March 20, 2011. Reply comments are due March 30, 2011. Comments and reply comments should be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

k. Erie Boulevard Hydropower, L.P. (Erie) filed a Settlement signed by the Adirondack Mountain Club, Adirondack Park Agency, Clifton-Fine Economic Development Group, 5 Ponds Subcommittee, St. Lawrence County, New York State Department of Environmental Conservation, New York State Council of Trout Unlimited, U.S. Fish and Wildlife Service, the National Park Service and Erie (collectively, the Parties). The Settlement resolves among the Parties issues related to project operations, fisheries, wildlife, water quality, recreation, and cultural resources. The Parties request that the Commission accept and incorporate, without material modification, Sections 3.1 through 3.9 of the Settlement as numbered license articles.

l. A copy of the Settlement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support

Dated: February 28, 2011.
Kimberly D. Bose,
Secretary.

[FR Doc. 2011-4964 Filed 3-3-11; 8:45 am]

BILLING CODE 6717-01-P